DEPARTMENT OF COMMERCE

National Oceanic and Atmospheric Administration

RIN 0648-XC04

Fisheries of the Caribbean, Gulf of Mexico, and South Atlantic; Amendment 29 to the Fishery Management Plan for the Reef Fish Resources of the Gulf of Mexico

AGENCY: National Marine Fisheries Service (NMFS), National Oceanic and Atmospheric Administration (NOAA), Commerce.

ACTION: Notice; intent to prepare a draft environmental impact statement (DEIS); scoping meetings; request for comments.

SUMMARY: NMFS, Southeast Region, in collaboration with the Gulf of Mexico Fishery Management Council (Council) intends to prepare a DEIS to describe and analyze management alternatives to be included in an amendment to the Fishery Management Plan for the Reef Fish Resources of the Gulf of Mexico. These alternatives will consider measures to rationalize effort and reduce overcapacity in the commercial grouper fishery to achieve and maintain optimum yield in the multi-species grouper fishery. The purpose of this notice of intent is to solicit public comments on the scope of issues to be addressed in the DEIS.

DATES: Written comments on the scope of issues to be addressed in the DEIS must be received by NMFS by September 20, 2007. Nine scoping meetings will be held in September 2007. See SUPPLEMENTARY INFORMATION for specific dates and times.

ADDRESSES: Written comments on the scope of the DEIS, suggested alternatives and potential impacts, and requests for additional information on the amendment should be sent to Sarah DeVido, National Marine Fisheries Service, Southeast Regional Office, 263 13th Avenue South, St. Petersburg, FL 33701-5511; telephone (727) 824-5305; fax (727) 824-5308. Comments may also be sent by email to Sarah.DeVido@noaa.gov.

Requests for information packets and for sign language interpretation or other auxiliary aids should be directed to the Gulf of Mexico Fishery Management Council, 2203 North Lois Avenue, Suite 1100, Tampa, FL 33607; telephone: 813-348-1630; fax: 813-348-1711. Requests may also be sent by email to steven.atran@gulfcouncil.org.

FOR FURTHER INFORMATION CONTACT: Sarah DeVido; phone: (727) 824-5305; fax: (727) 824-5308; email: Sarah.DeVido@noaa.gov.

SUPPLEMENTARY INFORMATION: Current regulatory measures used in the management of the grouper complex include a license limitation system, quotas, trip limits, minimum size limits, area/gear restrictions, and season closures. Nonetheless, the commercial grouper fishery has become overcapitalized which means the collective harvest capacity of participants is in excess of that required to efficiently harvest the commercial share of the total allowable catch. The overcapitalization observed in the fishery has caused commercial grouper regulations to become increasingly restrictive over time, intensifying derby conditions under which fishermen race to harvest as many fish as possible before the quota is reached. The intensification of derby conditions has, in some years, led to premature closures of the fishery.

Incentives for overcapitalization and derby fishery conditions are expected to be maintained as long as the current management structure persists. Under this management structure, the commercial grouper fishery is expected to continue to be characterized by higher than necessary levels of capital investment, increased operating costs, increased likelihood of shortened seasons, reduced safety at-sea, wide fluctuations in grouper supply and depressed ex vessel prices. These conditions lead to deteriorating working conditions and profitability for participants.

Therefore, NMFS, in collaboration with the Council will develop a DEIS to describe and analyze management alternatives to rationalize effort and reduce overcapacity in the commercial grouper fishery in order to achieve and maintain optimum yield in this multi-species fishery. These alternatives include, but are not limited to: elimination of latent permits, a buyback or buyout program, permit endorsements, an individual fishing quota program, or an individual transferable effort quota program.

In accordance with NOAA's Administrative Order 216-6, Section 5.02(c), Scoping Process, NMFS in collaboration with the Council has identified preliminary environmental issues as a means to initiate discussion for scoping purposes only. These preliminary issues may not represent the full range of issues that eventually will be evaluated in the EIS.

NMFS, in collaboration with the Council, has scheduled the following nine scoping meetings to provide the opportunity for additional public input: Biloxi, MS, on September 10, 2007; New Orleans, LA, on September 10, 2007; Orange Beach, AL, on September 11, 2007; Galveston, TX, on September 11, 2007; Panama City, FL, on September 12, 2007; Palacios, TX, on September 12, 2007; Corpus Christi, TX, on September 13, 2007; Madeira Beach, FL, on September 17, 2007; and Fort Myers Beach, FL, on September 18, 2007.

Copies of an information packet will be available at the meetings and are available prior to the meetings from the Council (see ADDRESSES).

All scoping meetings will begin at 7 p.m. The meetings will be physically accessible to people with disabilities. Requests for sign language interpretation or other auxiliary aids should be directed to the Council (see ADDRESSES).

Once the DEIS associated with Amendment 29 is completed, it will be filed with the Environmental Protection Agency (EPA). The EPA will publish a notice of availability of the DEIS for public comment in the Federal Register. The DEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

NMFS will consider public comments received on the DEIS in developing the final environmental impact statement (FEIS) and before adopting final management measures for the amendment. NMFS will submit both the final amendment and the supporting FEIS to the Secretary of Commerce (Secretary) for review as per the Magnuson-Stevens Fishery Conservation and Management Act.

NMFS will announce, through a notice published in the Federal Register, the availability of the final amendment for public review during the Secretarial review period. During Secretarial review, NMFS will also file the FEIS with the EPA and the EPA will publish a notice of availability for the FEIS in the Federal Register. This comment period will be concurrent with the Secretarial review period and will end prior to final agency action to approve, disapprove, or partially approve the amendment.

NMFS will announce, through a notice published in the Federal Register, all public comment periods on the final amendment, its proposed implementing regulations, and the availability of its associated FEIS. NMFS will consider all public comments received during the Secretarial review period, whether they are on the final amendment, the proposed regulations, or the FEIS, prior to final agency action.

Authority: 16 U.S.C. 1801 et seq.

Dated: August 14, 2007.
James P. Burgess,
Acting Director, Office of Sustainable Fisheries, National Marine Fisheries Service.

[FR Doc. E7-16359 Filed 8-20-07; 8:45 am]

BILLING CODE 3510-22-S